DEPARTMENT OF AGRICULTURE

Forest Service

Rubicon Trail Easement, Eldorado National Forest, Pacific Ranger District

AGENCY: Forest Service, USDA.

ACTION: Notice of intent to prepare an environmental impact statement.

SUMMARY: The USDA, Forest Service, Eldorado National Forest will prepare an environmental impact statement (EIS) to issue an easement to El Dorado County for the operation and maintenance of the Rubicon Trail where it crosses National Forest System lands. The easement would allow El Dorado County to install new bridges at Ellis Creek and Buck Island, replace the FOTR bridge, construct various erosion control feature as described in the Rubicon Trail Saturated Soil Water Quality Protection Plan (El Dorado County Department of Transportation, December 14, 2010) from Little Sluice to the County line, rehabilitate and close specified unauthorized routes, and install a vault toilet. The proposal will also address the need for access to dispersed recreation and consider whether to add some unauthorized routes to the National Forest Transportation System (NFTS) to provide permanent access to important dispersed recreation areas.

DATES: Comments concerning the scope of the analysis must be received by October 3, 2011. The draft environmental impact statement is expected in December 2011 and the final environmental impact statement is expected in April 2012.

ADDRESSES: Send written comments to Eldorado National Forest Supervisor, Kathryn D. Hardy, and 100 Forni Road, Placerville, CA, 95667. Comments may also be sent via e-mail to comments-pacificsouthwest-eldorado@fs.fed.us or via facsimile to 530-621-5297.

FOR FURTHER INFORMATION CONTACT: Laura Hierholzer, Project Leader, 100 Forni Road, Placerville, CA, 95667, 530-642-5187.

Individuals who use telecommunication devices for the deaf (TDD) may call the Federal Information Relay Service (FIRS) at 1-800-877-8339 between 8 a.m. and 8 p.m., Eastern Time, Monday through Friday.

SUPPLEMENTARY INFORMATION:

Purpose and Need for Action

The Rubicon Trail crosses National Forest System lands on the Pacific Ranger District of the Eldorado National Forest. The original route was a Native American trail connecting the Sacramento Valley and Lake Tahoe. By the 1890's the trail developed into a road, by the standards of the day, to provide motorized access to Rubicon Springs, Wentworth Springs and Georgetown. The Rubicon Trail is now recognized internationally as the premier OHV route in the United States and is referenced as the “crown jewel of all off highway trails.”

Pursuant to Federal Revised Statute 2477, El Dorado County has asserted a right-of-way over federal land through an 1887 declaration; this right-of-way is known as the Rubicon Trail. In its adoption of Resolution 142-89 on May 30, 1989, the El Dorado County Board of Supervisors reaffirmed the August 3, 1887 declaration, and declared that the Rubicon Trail is a non-maintained public road in El Dorado County. A legal easement for the Rubicon Trail has not been recorded except for the portion from the Loon Lake Dam to near Ellis Creek (known as the Ellis Creek Intertie). Other than the Ellis Intertie, the exact location and width of the Rubicon Trail has not been fully defined.

The Rubicon Trail is open to OHV use throught the year. The highest OHV use is during weekends and holidays between Memorial Day and Labor Day: however, OHV users also drive the trail when it is covered by snow and at times when saturated soil conditions exist during spring snowmelt and fall rains. Although OHV user groups hold workdays to maintain the trail and El Dorado County has completed maintenance of a portion of the trail; segments of the trail are severly eroded, allowing runoff from rainfall and snowmelt events to discharge sediment to adjacent streams. The trail has become incised due to the heavy use, and water from rainfall and snowmelt events is intercepted by the incised trail and transported, along with sediment, to stream crossings. Water also collects in large puddles and depressions in many locations along the trail. OHVs are driven through these low spots thereby accelerating trail erosion and sedimentation.

In July 2004, the El Dorado County Board of Supervisors issued a state of local emergency due to the significant amount of human fecal waste littered around the Spider Lake area. The amount of fecal waste was determined to pose a health and safety threat to users of the trail and to streams and lakes that are tributary to the Rubicon River and the Middle Fork American River. At the same time the Eldorado National Forest Supervisor issued a Forest Order closing the National Forest System lands around Spdier Lake. As a result, the Spider Lake area was closed to camping and all human access. Currently, restroom facilities exist at each trailhead and Ellis Creek, but there are no public sanitation facilities along the Rubicon Trail at Spider Lake or Buck Island Reservoir primitive camping areas. Once in the backcountry, trail users must rely on individual human waste disposal methods.

The purpose of this project is to:

• Clearly define the responsible party for operations and maintenance of the Rubicon Trail,

• reduce sediment delivery to Ellis Creek,

• reduce runoff from the Rubicon Trail that has the potential to discharge sediment and other waste into waters of the state, and

• address human waste management on the Rubicon Trail.

Proposed Action

The proposed action is to issue an easement to El Dorado County for the operation and maintenance of the Rubicon Trail where it crosses National Forest System lands. Both the Ellis Creek and Buck Island bridges would be constructed as well as the FOTR bridge would be replaced. The features (BMPs) as described in the Saturated Soil Water Quality Protection Plan would be constructed from Little Sluice to the County line. Unauthorized routes would be rehabilitated and closed as well as other unauthorized routes would be added to the NFTS for access for dispersed recreation. One vault toilet would be installed.

Responsible Official

Kathryn D. Hardy, Forest Supervisor of the Eldorado National Forest will be the Responsible Official for the project.

Nature of Decision To Be Made

The decision to be made is whether to adopt and implement the proposed action, an alternative to the proposed action, or take no action to issue an easement to El Dorado County.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: August 29, 2011.
Michael A. Valdes,
Acting Forest Supervisor.

[FR Doc. 2011-22525 Filed 9-1-11; 8:45 am]

BILLING CODE 3410-11-P